CONSUMER PRODUCT SAFETY COMMISSION

Sunshine Act Meetings

TIME AND DATE: Monday, February 28, 2022; 10:00 a.m.

PLACE: This meeting will be conducted by remote means.

STATUS: Commission meeting—closed to the public.*

MATTERS TO BE CONSIDERED: Briefing matter.

CONTACT PERSON FOR MORE INFORMATION: Alberta E. Mills, Secretary, Division of the Secretariat, Office of the General Counsel, U.S. Consumer Product Safety Commission, 4330 East-West Highway, Bethesda, MD 20814, (301) 504-7479 (Office) or 240-863-8938 (cell).

* The Commission unanimously determined by recorded vote to close the meeting and that agency business requires calling the meeting without seven calendar days advance public notice.

Dated: February 23, 2022.
Alberta E. Mills,
Secretary.

[FR Doc. 2022-04216 Filed 2-24-22; 11:15 am]

BILLING CODE 6355-01-P